DEPARTMENT OF COMMERCE

Census Bureau

Agency Information Collection Activities; Submission to the Office of Management and Budget (OMB) for Review and Approval; Comment Request; Addition of Title 13 U.S.C. Section 221 to the Citation of Mandatory Collection Authority for the Vehicle Inventory and Use Survey

The Department of Commerce will submit the following information collection request to the Office of Management and Budget (OMB) for review and clearance in accordance with the Paperwork Reduction Act of 1995. We invite the general public and other Federal agencies to comment on proposed, and continuing information collections, which helps us assess the impact of our information collection requirements and minimize the public's reporting burden. This notice allows for 30 days for public comments.

Agency: U.S. Census Bureau.

Title: Addition of Title 13 U.S.C. Section 221 to the Citation of Mandatory Collection Authority for the Vehicle Inventory and Use Survey (VIUS).

OMB Control Number: 0607-XXXX.

Form Number(s): The VIUS form number are TC-9501 and TC-9502.

Type of Request: Emergency submission, New Information Collection Request.

Number of Respondents: There are 150,000 respondents to the VIUS.

Average Hours per Response: The average response time for the VIUS is 65 minutes.

Burden Hours: The annual burden of the VIUS is 162,500 hours. This clearance will not impact this burden.

Needs and Uses: The Office of Management and Budget approved the VIUS under OMB Approval number 0607-0892 on October 12, 2021. The 2021 VIUS collects data to measure the physical and operational characteristics of trucks from a sample of approximately 150,000 trucks. These trucks are selected from more than 190 million private and commercial trucks registered with motor vehicle departments in the 50 states and the District of Columbia. The Census Bureau is collecting the data for the sampled trucks from the registered truck owners.

The VIUS is the only comprehensive source of information on the physical and operational characteristics of the Nation's truck population. The VIUS provides unique, essential information for government, business, and academia. The U.S. Department of Transportation, State Departments of Transportation, and transportation consultants compliment VIUS microdata as extremely useful and flexible to meet constantly changing requests that cannot be met with predetermined tabular publications. The planned microdata file will enable them to cross-tabulate data to meet their needs.

Due to an oversight, the materials submitted to OMB for review in the original request for clearance of the VIUS did not include the complete legal authority for the mandatory collection of the VIUS. Currently our collection authority cites that Title 13, United States Code, Sections 131 and 182, authorizes the collection and Sections 224 and 225 make the collection mandatory. However, Sections 224 and 225 only apply to respondents who are part of a company, business, or organization. Section 221 also needs to be cited to require mandatory response for individual owners of personal vehicles who are included in the VIUS sample. Including the correct citation will allow us to make VIUS mandatory for individuals who own personal vehicles, as intended.

Affected Public: Individuals and Business.

Frequency: One time.

Respondent's Obligation: Mandatory.

Legal Authority: Title 13 U.S.C., Sections 131 and 182 authorize the collection of VIUS data. Sections 221, 224 and 225 of Title 13 U.S.C. make reporting mandatory for all respondents, including both individuals and businesses.

This information collection request may be viewed at www.reginfo.gov. Follow the instructions to view the Department of Commerce collections currently under review by OMB.

Written comments and recommendations for the proposed information collection should be submitted within 30 days of the publication of this notice to pracomments@doc.gov.

Sheleen Dumas,
Department PRA Clearance Officer, Office of the Chief Information Officer, Commerce Department.

[FR Doc. 2022-08112 Filed 4-14-22; 8:45 am]

BILLING CODE 3510-07-P